FEDERAL COMMUNICATIONS COMMISSION

Notice of Public Information Collection(s) Approved by the Office of Management and Budget

August 20, 2008.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the “FOR FURTHER INFORMATION CONTACT” section below.

FOR FURTHER INFORMATION CONTACT: For additional information contact Cathy Williams, Performance and Evaluation Records Management Division, Office of the Managing Director, at (202) 418-2918 or at Cathy.Williams@fcc.gov.

SUPPLEMENTARY INFORMATION: OMB Control Number: 3060-0027.

OMB Approval Date: August 8, 2008.

Expiration Date: August 31, 2011.

Title: Application for Construction Permit for Commercial Broadcast Station.

Form Number: FCC Form 301.

Estimated Annual Burden: 4,278 responses; 2-5 hours per response; 11,072 hours total per year.

Annual Cost Burden: $51,802,197.

Obligation to Respond: Required to obtain or retain benefits. The statutory authority for this collection of information is contained in 154(i), 303 and 308 of the Communications Act of 1934, as amended.

Nature and Extent of Confidentiality: There is no need for confidentiality.

Needs and Uses: On December 18, 2007, the Commission adopted a Report and Order and Order on Reconsideration (“Quadrennial Order”) in its 2006 Quadrennial Regulatory Review of the Commission's Broadcast Ownership Rules pursuant to Section 202 of the Telecommunications Act of 1996, MB Docket No. 06-121, FCC 07-216. Section 202 requires the Commission to review its broadcast ownership rules every four years and determine whether any of such rules are necessary in the public interest. Further, Section 202 requires the Commission to repeal or modify any regulation it determines to be no longer in the public interest.

FCC Form 301 and the applicable exhibits/explanations are required to be filed when applying for authority to construct a new commercial AM, FM, or TV broadcast station or to make changes in the existing facilities of such a station. The instructions and a worksheet included with Form 301 have been revised to reflect the changes to the daily newspaper cross-ownership rule, 47 CFR 73.3555(d) that the Commission adopted in the Quadrennial Order. The rule change to section 73.3555(d) of the Commission's rules was published in the Federal Register on February 21, 2008 (73 FR 9481) and became effective on July 9, 2008 (73 FR 39269).

The instructions for Section II (Legal Information) to Form 301 have been revised to include a reference to the Quadrennial Order as a source of information regarding the Commission's multiple ownership rules and attribution rules in order for applicants to determine relevant parties to the application. Worksheet #2, Section A.IV. (Cross Ownership) and Section B (Family Relationships), which applicants use to respond to Section II, Item 4 (Multiple Ownership) of Form 301, have been revised to incorporate the new newspaper/broadcast cross-ownership rule, 47 CFR 73.3555(d) and the revised definition of a “‘Daily Newspaper,” Note 6 to 47 CFR 73.3555, that the Commission adopted in the Quadrennial Order. An applicant uses Worksheet #2 to determine the circumstances under which an entity may own a daily newspaper and a broadcast station in the same local market.

47 CFR 73.3555(d) (daily newspaper cross-ownership rule) states:

(1) No license for an AM, FM or TV broadcast station shall be granted to any party (including all parties under common control) if such party directly or indirectly owns, operates or controls a daily newspaper and the grant of such license will result in: (i) The predicted or measured 2 mV/m contour of an AM station, computed in accordance with Sec. 73.183 or Sec. 73.186, encompassing the entire community in which such newspaper is published; or (ii) The predicted 1 mV/m contour for an FM station, computed in accordance with Sec. 73.313, encompassing the entire community in which such newspaper is published; or (iii) The Grade A contour of a TV station, computed in accordance with Sec. 73.684, encompassing the entire community in which such newspaper is published.

(2) Paragraph (1) shall not apply in cases where the Commission makes a finding pursuant to Section 310(d) of the Communications Act that the public interest, convenience, and necessity would be served by permitting an entity that owns, operates or controls a daily newspaper to own, operate or control an AM, FM, or TV broadcast station whose relevant contour encompasses the entire community in which such newspaper is published as set forth in paragraph (1).

(3) In making a finding under paragraph (2), there shall be a presumption that it is not inconsistent with the public interest, convenience, and necessity for an entity to own, operate or control a daily newspaper in a top 20 Nielsen DMA and one commercial AM, FM or TV broadcast station whose relevant contour encompasses the entire community in which such newspaper is published as set forth in paragraph (1), provided that, with respect to a combination including a commercial TV station: (i) The station is not ranked among the top four TV stations in the DMA, based on the most recent all-day (9 a.m.-midnight) audience share, as measured by Nielsen Media Research or by any comparable professional, accepted audience ratings service; and (ii) At least 8 independently owned and operated major media voices would remain in the DMA in which the community of license of the TV station in question is located (for purposes of this provision major media voices include full-power TV broadcast stations and major newspapers).

(4) In making a finding under paragraph (2), there shall be a presumption that it is inconsistent with the public interest, convenience, and necessity for an entity to own, operate or control a daily newspaper and an AM, FM or TV broadcast station whose relevant contour encompasses the entire community in which such newspaper is published as set forth in paragraph (1) in a DMA other than the top 20 Nielsen DMAs or in any circumstance not covered under paragraph (3).

(5) In making a finding under paragraph (2), the Commission shall consider: (i) Whether the combined entity will significantly increase the amount of local news in the market; (ii) whether the newspaper and the broadcast outlets each will continue to employ its own staff and each will exercise its own independent news judgment; (iii) the level of concentration in the Nielsen Designated Market Area (DMA); and (iv) the financial condition of the newspaper or broadcast station, and if the newspaper or broadcast station is in financial distress, the proposed owner’s commitment to invest significantly in newsroom operations.

(6) In order to overcome the negative presumption set forth in paragraph (4) with respect to the combination of a major newspaper and a television station, the applicant must show by clear and convincing evidence that the co-owned major newspaper and station will increase the diversity of independent news outlets and increase competition among independent news sources in the market, and the factors set forth above in paragraph (5) will inform this decision.

(7) The negative presumption set forth in paragraph (4) shall be reversed under the following two circumstances: (i) the newspaper or broadcast station is failed or failing; or (ii) the combination is with a broadcast station that was not offering local newscasts prior to the combination, and the station will initiate at least seven hours per week of local news programming after the combination. Note 6 to 47 CFR 73.3555 states: For purposes of this section a daily newspaper is one which is published four or more days per week, which is in the dominant language in the market, and which is circulated generally in the community of publication. A college newspaper is not considered as being circulated generally.

47 CFR 73.3580 requires that applicants for construction permits for new broadcast stations and for major change in existing broadcast facilities (as defined in 47 CFR 73.3571(a)(1) (for AM applicants), 73.3572(a)(1) (for television applicants), or 73.3573(a)(1) (for FM applicants)) give local notice in a newspaper of general circulation in the community to which the station is licensed. This publication requirement also applies with respect to major amendments as defined in 47 CFR 73.3571(b) (AM), 73.3772(b) (television), and 73.3573(b) (FM). This publication requirement also applies with respect to applications for minor modification to existing AM and FM facilities in which the applicant seeks to change the existing facility's community of license. Local notice is also required to be broadcast over the station, if operating. However, if the station is the only operating station in its broadcast service licensed to the community involved, publication of the notice in a newspaper is not required. Completion of publication may occur within 30 days before or after the tender of the application to the Commission.

This notice must be published at least twice a week for two consecutive weeks in a three-week period. A copy of this notice must be placed in a broadcast station's public inspection file along with the application. The Commission's actions in this proceeding did not revise this requirement.

Federal Communications Commission.
Marlene H. Dortch,
Secretary.

[FR Doc. E8-19886 Filed 8-26-08; 8:45 am]

BILLING CODE 6712-01-P